DEPARTMENT OF ENERGY

Federal Energy Regulatory Commission

[Docket No. EC00-48-000, et al.]

Cajun Electric Power Cooperative, Inc., et al.; Electric Rate and Corporate Regulation Filings

January 18, 2000.

Take notice that the following filings have been made with the Commission:

1. Cajun Electric Power Cooperative, Inc., and Louisiana Generating LLC

[Docket No. EC00-48-000]

Take notice that on January 13, 2000, Louisiana Generating LLC (Generating) tendered for filing an application under section 203 of the Federal Power Act for approval of the transfer of certain transmission facilities associated with generating facilities being sold to Louisiana Generating LLC by Cajun Electric Power Cooperative, Inc. (Cajun). Generating also requested approval of the assignment of four power sales agreements from Cajun to Generating.

Comment date: February 14, 2000, in accordance with Standard Paragraph E at the end of this notice.

2. Ameren Services Company

[Docket No. ER00-1084-000]

Take notice that on January 13, 2000, Ameren Services Company (Ameren) tendered for filing a Service Agreement for Market Based Rate Power Sales between Ameren and the City of Sikeston, Board of Municipal Utilities. Ameren asserts that the purpose of the Agreement is to replace the unexecuted Agreement in Docket No. ER98-4440-000 with an executed Agreement.

Ameren requests that the Service Agreement become effective August 3, 1998.

Comment date: February 2, 2000, in accordance with Standard Paragraph E at the end of this notice.

3. Ameren Services Company

[Docket No. ER00-1085-000]

Take notice that on January 13, 2000, Ameren Services Company (Ameren) tendered for filing a Service Agreement for Market Based Rate Power Sales between Ameren and Duke Energy Trading & Marketing, L.L.C. Ameren asserts that the purpose of the Agreement is to replace the unexecuted Agreement in Docket No. 98-3886-000 with an executed Agreement.

Ameren requests that the Service Agreement become effective August 3, 1998.

Comment date: February 2, 2000, in accordance with Standard Paragraph E at the end of this notice.

4. California Independent System Operator Corporation

[Docket No. ER00-1086-000]

Take notice that on January 13, 2000, the California Independent System Operator Corporation (ISO) tendered for filing Amendment No. 2 to the Meter Service Agreement between the ISO and PG&E Energy Services Corporation, for acceptance by the Commission. The ISO states that Amendment No. 2 modifies Schedule 1 of the Meter Service Agreement to reflect changes in meter information concerning meter resources and their locations.

The ISO states that this filing has been served on all parties listed on the official service list in the above-referenced docket.

Comment date: February 2, 2000, in accordance with Standard Paragraph E at the end of this notice.

5. California Independent System Operator Corporation

[Docket No. ER00-1087-000]

Take notice that on January 13, 2000, the California Independent System Operator Corporation (ISO) tendered for filing Amendment No. 1 to the Meter Service Agreement between the ISO and Cabrillo Power II LLC, for acceptance by the Commission. The ISO states that Amendment No. 1 modifies Schedule 1, Section 3.3.2 of the Meter Service Agreement to reflect changes in meter information concerning meter locations and addresses.

The ISO states that this filing has been served on all parties listed on the official service list in the above-referenced docket.

Comment date: February 2, 2000, in accordance with Standard Paragraph E at the end of this notice.

6. Northeast Utilities Service Company

[Docket No. ER00-1088-000]

Take notice that on January 13, 2000, Northeast Utilities Service Company (NUSCO) tendered for filing, a First Amendment to its Service Agreement No. 55 under FERC Electric Tariff Original Volume No. 9, under which New Hampshire Electric Cooperative (NHEC) takes Network Integration Transmission Service under the NU System Companies' Open Access Transmission Service Tariff.

NUSCO states that the amendment changes the delivery points identified in Service Agreement No.55 and is being filed to correspond to a settlement reached between the NU System Companies and NHEC and filed with the Commission in Docket Nos. EL96-53-000 and EL95-37-000.

NUSCO requests waiver of the Commission's regulations to allow the amendment to become effective as of January 1, 2000, the effective date requested for the Settlement.

Comment date: February 2, 2000, in accordance with Standard Paragraph E at the end of this notice.

7. PECO Energy Company

[Docket No. ER00-1089-000]

Take notice that on January 13, 2000, PECO Energy Company (PECO) filed an amendment to its Electric Tariff Original Volume No. 1 accepted by the Commission in Docket No. ER95-770, as subsequently amended and accepted by the Commission in Docket No. ER97-316. The amendment requests Commission authorization to make market based sales of specified ancillary services.

PECO requests a waiver of the Commission's regulations to permit the revised tariff sheets to become effective January 14, 2000.

Comment date: February 2, 2000, in accordance with Standard Paragraph E at the end of this notice.

8. Wisconsin Public Service Corporation

[Docket No. ER00-1090-000]

Take notice that on January 13, 2000, Wisconsin Public Service Corporation (WPSC) tendered for filing a quarterly report for the quarter ending December 31, 1999.

Comment date: February 7, 2000, in accordance with Standard Paragraph E at the end of this notice.

9. Entergy Services, Inc.

[Docket No. ER00-1091-000]

Take notice that on January 13, 2000, Entergy Services, Inc. (Entergy), on behalf of Entergy Gulf States, Inc. (Entergy Gulf States), tendered for filing an Interconnection and Operating Agreement between Entergy Gulf States and SRW Cogeneration Limited Partnership (SRW).

Comment date: February 2, 2000, in accordance with Standard Paragraph E at the end of this notice.

10. Illinova Power Marketing, Inc.

[Docket No. ER00-1092-000]

Take notice that on January 13, 2000, Illinova Power Marketing, Inc. (IPMI) tendered for filing Electric Power Transaction Service Agreements under which Cargill Alliant, LLC and Springfield City Water Light & Power will take service pursuant to IPMI's power sales tariff, Rate Schedule FERC No. 1.

IPMI has requested an effective date of December 14, 1999, for each service agreement.

Comment date: February 2, 2000, in accordance with Standard Paragraph E at the end of this notice.

11. Cadillac Renewable Energy LLC

[Docket No. ER00-1097-000]

Take notice that on January 12, 2000, Cadillac Renewable Energy LLC filed their quarterly report for the quarter ending December 31, 1999.

Comment date: February 1, 2000, in accordance with Standard Paragraph E at the end of this notice.

12. Cleco Utility Group, Inc.

[Docket No. ER00-1098-000]

Take notice that on January 10, 2000, Cleco Utility Group, Inc., Transmission Services (CLECO) filed their service agreements for non-firm and short term firm point-to-point transmission services by CLECO to Cargill and Alliant, LLC.

CLECO requests an effective date of December 22, 1999.

Copies of this filing have been served to: Ms. Arlene Jorgensen Hillestad, Contract Administrator, Cargill-Alliant, LLC, P. O. Box 5653, Minneapolis, MN 55440-5653.

Comment date: January 28, 2000, in accordance with Standard Paragraph E at the end of this notice.

13. ACN Power, Inc.

[Docket No. ER00-1102-000]

Take notice that on January 11, 2000, ACN Power, Inc. tendered for filing a letter from the Executive Committee of the Western Systems Power Pool (WSPP) indicating that ACN Power, Inc. had completed all the steps for pool membership. ACN Power, Inc. requests that the Commission amend the WSPP Agreement to include it as a member.

ACN Power, Inc. requests an effective date of January 6, 2000 for the proposed amendment.

Copies of the filing were served upon the WSPP Executive Committee.

Comment date: January 31, 2000, in accordance with Standard Paragraph E at the end of this notice.

14. Indianapolis Power & Light Company

[Docket No. OA00-4-000]

Take notice that on January 6, 2000, Indianapolis Power & Light Company (Indianapolis) submitted standards of conduct under Order No. 889 et seq.¹

¹ Open Access Same-Time Information System (Formerly Real-Time Information Network) and Standards of Conduct, 61 FR 21737 (May 10, 1996), FERC Stats. & Regs., Regulations Preambles January 1991-1996 ¶ 31,035 (April 24, 1996), Order No. 889-A, order on rehearing, 62 FR 12484 (March 14, 1997), III FERC Stats. & Regs. ¶ 31,049 (March 4, 1997); Order No. 889-B, rehearing denied, 62 FR 64715 (December 9, 1997), III FERC Stats. & Regs. ¶ 31,253 (November 25, 1997).

Indianapolis states that it served copies of the filing on the service list, to the Indiana Utility Regulatory Commission, Cinergy Corp., and Hoosier Energy Rural Electric Cooperative, Inc.

Comment date: February 2, 2000, in accordance with Standard Paragraph E at the end of this notice.

Standard Paragraph E

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-1690 Filed 1-24-00; 8:45 am]

BILLING CODE 6717-01-P